DEPARTMENT OF TRANSPORTATION

National Highway Traffic Safety Administration

[Docket No. NHTSA-2005-22118; Notice 1]

Eaton Aeroquip, Inc., Receipt of Petition for Decision of Inconsequential Noncompliance

Eaton Aeroquip, Inc. (Eaton) has determined that the end fittings that it produced for nylon air brake hoses do not comply with S7.2.2(d) of 49 CFR 571.106, Federal Motor Vehicle Safety Standard (FMVSS) No. 106, “Brake hoses.” Eaton has filed an appropriate report pursuant to 49 CFR Part 573, “Defect and Noncompliance Reports.”

Pursuant to 49 U.S.C. 30118(d) and 30120(h), Eaton has petitioned for an exemption from the notification and remedy requirements of 49 U.S.C. Chapter 301 on the basis that this noncompliance is inconsequential to motor vehicle safety.

This notice of receipt of Eaton's petition is published under 49 U.S.C. 30118 and 30120 and does not represent any agency decision or other exercise of judgment concerning the merits of the petition.

Affected are a total of approximately 7,784,614 end fittings produced from 2001 to June 30, 2005, plus an indeterminate number of end fittings produced prior to 2001 for which records are not available (Eaton acquired the end fitting manufacturing business on November 1, 2002). S7.2.2(d) of FMVSS No. 106 requires that each fitting shall be etched, embossed, or stamped with

(d) The * * * outside diameter of the plastic tubing to which the fitting is properly attached expressed in inches or fractions of inches or in millimeters followed by the letters OD * * *

The subject end fittings are missing the letters OD from their labels.

Eaton believes that the noncompliance is inconsequential to motor vehicle safety and that no corrective action is warranted. Eaton states that the purpose of the letters OD on the label is to indicate that the measurement refers to the outside diameter of a plastic tube as opposed to the inside diameter. Eaton points out that if the end user was to assume that the measurement referred to the inside diameter because of the absence of the letters OD, it “would be physically impossible, for example, to insert a ½ inch inside diameter hose into an end fitting made for ½ inch outside diameter plastic tubing.” According to Eaton, “if an end-user were to mistakenly attempt to use the mislabeled end fittings with a hose, instead of plastic tubing, the incompatibility would be obvious because the diameters would not match.” Eaton states that therefore, “there is no potential that the mislabeled end fittings could be used improperly, and there could be no resulting issue of motor vehicle safety.”

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: September 26, 2005.

Authority: 49 U.S.C. 30118, 30120: Delegations of authority at CFR 1.50 and 501.8.

Issued on: August 19, 2005.
Ronald L. Medford,
Senior Associate Administrator for Vehicle Safety.

[FR Doc. 05-16860 Filed 8-24-05; 8:45 am]

BILLING CODE 4910-59-P